DEPARTMENT OF HEALTH AND HUMAN SERVICES

Administration for Children and Families

Notice of Meeting; Administration for Native Americans

AGENCY: Administration for Children and Families, Department of Health and Human Services.

ACTION: Notice of Tribal Consultation.

SUMMARY: The Department of Health and Human Services (HHS), Administration for Children and Families (ACF) will host a tribal consultation to solicit input on the agency's programs.

DATES: August 18, 2011.

ADDRESSES: Room 800, 200 Independence Avenue, SW., Washington, DC 20201.

FOR FURTHER INFORMATION CONTACT: Lillian A. Sparks, Commissioner, Administration for Native Americans, at 202-401-5590, by e-mail at Lillian.sparks@acf.hhs.gov or by mail at 370 L'Enfant Promenade, SW., 2 West, Washington, DC 20447.

SUPPLEMENTARY INFORMATION:

On September 29, 2010, ACF held its first Tribal Consultation Session in 5 years. The purpose of that session was to receive input to ACF's draft Tribal Consultation Policy and ACF has been working hard to finalize that policy. ACF Principals will once again be available to speak with tribal leaders to discuss issues important to the tribes. This year's session will focus on ACF tribal program priorities and will include a listening session on tribal self-governance. Testimonies may be submitted no later than August 5, 2011, to: Lillian Sparks, Commissioner, Administration for Native Americans, 370 L'Enfant Promenade, SW., Washington, DC 20447, anacommissioner@acf.hhs.gov.

In addition to the Tribal Consultation Session, ACF will be hosting a Tribal Training and Technical Assistance Day to provide information about ACF programs, the grants process and financial management, technical assistance available from ACF, and ACF's Interoperability Innovation Initiative. The Tribal Training and Technical Assistance Day will take place on August 17, 2011, at the same address as the Tribal Consultation Session, listed above.

ACF is encouraging tribes to send their tribal planning officers or comparable employee to attend the Tribal Training and Technical Assistance Day. Registration for both the Tribal Training and Technical Assistance Day and the Tribal Consultation Session can be made at the following Web site address: http://www.acfconsultation.com/.

The Office of Child Support Enforcement (OCSE) also will be extending an invitation to tribal leaders to engage in an additional day of consultation and dialogue concerning tribal child support issues. This consultation will take place on August 19, 2011, the day after the ACF Tribal Consultation Session. It will be held in the multipurpose room on the 7th Floor of the Aerospace Building, located at 901 D Street, SW., Washington, DC 20447. Additional information will be sent out by OCSE under separate cover.

Dated: July 11, 2011.
George H. Sheldon,
Acting Assistant Secretary for Children and Families.

[FR Doc. 2011-18096 Filed 7-18-11; 8:45 am]

BILLING CODE 4184-34-P